DEPARTMENT OF DEFENSE

Office of the Secretary

Defense Threat Reduction Agency (DTRA); Membership of the Defense Threat Reduction Agency Performance Review Board

AGENCY: Department of Defense, Defense Threat Reduction Agency.

ACTION: Notice of membership of the Defense Threat Reduction Agency Performance Review Board.

SUMMARY: This notice announces the appointment of the members of the Performance Review Board (PRB) of the Defense Threat Reduction Agency. The publication of PRB membership is required by 5 U.S.C. 4314(c)(4). The Performance Review Board shall provide fair and impartial review of Senior Executive Service performance appraisals and make recommendations regarding performance ratings and performance awards to the Director, Defense Threat Reduction Agency.

EFFECTIVE DATE: The effective date of service for the appointees of the DTRA PRB is on or about November 28, 2000.

FOR FURTHER INFORMATION CONTACT: D. DIAL-ALFRED, Civilian Personnel Office, (703) 767-5811, Defense Threat Reduction Agency, Fort Belvoir, Virginia 22060-6201.

SUPPLEMENTARY INFORMATION: In accordance with 5 U.S.C. 4314(c)(4), the officials appointed to serve as members of the DTRA PRB are set forth below.

PRB Chair: Robert P. Bongiovi, Major General, USAF

Mr. Robert L. Brittigan

Mr. Myron K. Kunka

The following DTRA officials will serve as alternate members of the DTRA PRB, as appropriate.

Mr. Douglas M. Englund

Mr. Michael K. Evenson

Mr. Joe P. Golden

Mr. Richard L. Gullickson

Dr. Don A. Linger

Mr. Clifton B. McFarland

Mr. Clifton B. McFarland

Mr. Vayl S. Oxford

Mrs. Joan Ma Pierre

Dr. I. Gary Resnick

Dr. Michael J. Shore

Ms. Ann Bridges Steely

Dr. Leon A. Wittwer

Dated: November 27, 2000.
L.M. Bynum,
Alternate OSD Federal Register Liaison Officer, Department of Defense.

[FR Doc. 00-30589 Filed 11-30-00; 8:45 am]

BILLING CODE 5001-10-M